DEPARTMENT OF AGRICULTURE

National Agricultural Statistics Service

Notice of the Intent To Request To Conduct a New Information Collection

AGENCY: National Agricultural Statistics Service, USDA.

ACTION: Notice and request for comments.

SUMMARY: In accordance with the Paperwork Reduction Act of 1995, this notice announces the intention of the National Agricultural Statistics Service (NASS) to seek approval to conduct a new information collection to gather data related to the production and marketing of foods directly from farm producers to consumers or retailers. In addition NASS will collect some whole-farm data to be used to classify and group operations for summarizing and publication of results.

FOR FURTHER INFORMATION CONTACT: R. Renee Picanso, Associate Administrator, National Agricultural Statistics Service, U.S. Department of Agriculture, (202) 720-2707. Copies of this information collection and related instructions can be obtained without charge from David Hancock, NASS-OMB Clearance Officer, at (202) 690-2388 or at ombofficer@nass.usda.gov.

Correction

In the Federal Register of October 26, 2015 in FR Doc. 2015-27139 on page 65196, in the SUPPLEMENTARY INFORMATION, para 5, the Estimate of Burden section, read as follows:

Estimate of Burden: Public reporting burden for this collection of information is estimated to average 30 minutes per response. NASS plans to mail out publicity materials with the questionnaires to inform producers of the importance of this survey. NASS will also use multiple mailings, followed up with phone and limited personal enumeration to increase response rates and to minimize data collection costs. The sample will consist of farm operators believed to market their products directly to consumers or retailers. These operators will be drawn from two sources: (1) NASS's list of farm operators, and (2) farm operators obtained from publically available sources, including those obtained from web harvesting.

Respondents: Farmers and Ranchers.

Estimated Number of Respondents: 56,000.

Estimated Total Annual Burden on Respondents: 29,000 hours.

Yvette Anderson,
Federal Register Liaison Officer for ARS, ERS, and NASS.

[FR Doc. 2015-30159 Filed 11-25-15; 8:45 am]

BILLING CODE 3410-20-P